DEPARTMENT OF ENERGY

[Docket No. 16-144-LNG]

Louisiana LNG Infrastructure LLC; Request for Extension of Export Commencement Deadline

AGENCY: Office of Fossil Energy and Carbon Management, Department of Energy.

ACTION: Notice of request.

SUMMARY: The Office of Fossil Energy and Carbon Management (FECM) (formerly the Office of Fossil Energy (FE)) of the Department of Energy (DOE) gives notice (Notice) of receipt of a request (Request), filed on May 29, 2025, by Louisiana LNG Infrastructure LLC (Louisiana LNG). Louisiana LNG requests to amend its existing authorization to export domestically produced liquefied natural gas (LNG) to non-free trade agreement countries set forth in DOE/FE Order No. 4373 (as amended)—specifically, to extend the current export commencement deadline in its order. Louisiana LNG filed the Request under the Natural Gas Act (NGA).

DATES: Protests, motions to intervene, or notices of intervention, as applicable, and written comments are to be filed electronically as detailed in the Public Comment Procedures section no later than 4:30 p.m., Eastern time, July 17, 2025.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34) Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein. U.S. Department of Energy (GC-76) Office of the Assistant General Counsel for Energy Delivery and Resilience, Forrestal Building, Room 6D-033, 1000 Independence Avenue SW, Washington, DC 20585, (240) 780-1691, cassandra.bernstein@hq.doe.gov.

SUPPLEMENTARY INFORMATION: On May 2, 2019, in DOE/FE Order No. 4373 (as amended),¹ DOE authorized Louisiana LNG to export domestically produced LNG by vessel from the proposed Woodside Louisiana LNG Project (Project) ² in Calcasieu Parish, Louisiana, to any country with which the United States has not entered into a free trade agreement (FTA) requiring national treatment for trade in natural gas, and with which trade is not prohibited by U.S. law or policy (non-FTA countries).³ Louisiana LNG is authorized to export this LNG in a volume equivalent to 1,415.3 billion cubic feet per year (Bcf/yr) of natural gas for a term extending through December 31, 2050.⁴

¹ Louisiana LNG Infrastructure LLC, DOE/FE Order No. 4373, Docket No. 16-144-LNG, Opinion and Order Granting Long-Term Authorization to Export Liquefied Natural Gas to Non-Free Trade Agreement Nations (May 2, 2019), amended by DOE/FE Order No. 4373-A (Dec. 10, 2020) (extending export term), further amended by DOE/FECM Order No. 4373-B (Feb. 26, 2025) (changing name of authorization holder from Driftwood LNG LLC to Louisiana LNG Infrastructure LLC). In light of the authorization holder's corporate name change from Driftwood LNG LLC to Louisiana LNG Infrastructure LLC, and DOE's approval of this change, this Notice references this non-FTA authorization as having been issued in the name of Louisiana LNG Infrastructure LLC. See Louisiana LNG Infrastructure LLC, Request for Extension of Export Commencement Deadline, Docket No. 16-144-LNG, at 1 n.1 (May 29, 2025) [hereinafter Request].

² The initial order authorized exports from the proposed “Driftwood LNG Facility.” In conjunction with the corporate name change referenced above, the export project is now known as the Woodside Louisiana LNG Project. See Louisiana LNG Infrastructure LLC, DOE/FE Order No. 4373-B, at 3-4; see also Request at 2.

³ 15 U.S.C. 717b(a).

⁴ Louisiana LNG Infrastructure LLC, DOE/FE Order No. 4373, as amended by DOE/FE Order No. 4373-A.

As relevant here, Order No. 4373 requires Louisiana LNG to “commence export operations using the planned liquefaction facility no later than seven years from the date of issuance of this Order”—i.e., by May 2, 2026.⁵ In the Request, Louisiana LNG asks DOE to grant an extension of the export commencement deadline in its non-FTA authorization, “so that it may commence exports from the Project by December 31, 2029.” ⁶

⁵ Louisiana. LNG Infrastructure LLC, DOE/FE Order No. 4373, at 68 (Ordering Para. D).

⁶ Request at 6. Louisiana LNG states that it is not requesting any modification to its existing FTA authorization (DOE/FE Order No. 3968); see id. at 2 n3.

In support of this Request, Louisiana LNG states that, in 2024, the Federal Energy Regulatory Commission (FERC) granted Louisiana LNG's request for a three-year extension to complete construction and place the Project in-service.⁷ Louisiana LNG further states that, on May 13, 2025, it submitted a second request for extension to FERC, seeking an additional eight-month period, until December 31, 2029 (the same date as requested in this proceeding), to complete construction and place the Project in-service.⁸ Louisiana LNG also identifies the actions it has taken to date toward the development of the Project. Louisiana LNG states that it has “made substantial progress” in developing the Project, and that “there is significant evidence demonstrating good cause for the extension of time.” ⁹

⁷ Id. at 4.

⁸ Id. at 2, 4 (stating that this “minor additional extension of time is required to meet certain schedule milestones” under Louisiana LNG's Engineering, Procurement, and Construction contract with Bechtel Energy Inc.). This extension request is currently pending at FERC.

⁹ Id. at 2.

Additional details can be found in the Request, posted on the DOE website at https://www.energy.gov/sites/default/files/2025-05/LALNG%20DOE%20Request%20for%20Extension%20of%20Time.pdf.

DOE Evaluation

In reviewing the Request, DOE will consider any issues required by law or policy under NGA section 3(a), DOE's regulations, and any other documents deemed appropriate.

Parties that may oppose the Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Request. Interested parties will be provided 30 days from the date of publication of this Notice in the Federal Register in which to submit comments, protests, motions to intervene, or notices of intervention. The public previously was given an opportunity to intervene in, protest, and comment on Louisiana LNG's long-term non-FTA application in Docket No. 16-144-LNG (then submitted by Driftwood LNG LLC, see supra note 1). Therefore, DOE will not consider comments or protests that do not bear directly on this Request.

Any person wishing to become a party to this proceeding evaluating Louisiana LNG's Request must file a motion to intervene or notice of intervention.¹⁰ The filing of comments or a protest with respect to the Request will not serve to make the commenter or protestant a party to this proceeding, although protests and comments received from persons who are not parties will be considered in determining the appropriate action to be taken on the Request. All protests, comments, motions to intervene, or notices of intervention must meet the requirements specified by DOE's regulations in 10 CFR part 590, including the service requirements.

¹⁰ Status as an intervenor in prior proceeding(s) in this docket does not continue to this proceeding evaluating Louisiana LNG's Request, and therefore any person interested in intervening to address the Request must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 16-144-LNG” or “Louisiana LNG Infrastructure LLC Request for Extension” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Request, and any filed protests, motions to intervene, notices of intervention, and comments will be available electronically on the DOE website at www.energy.gov/fecm/regulation.

A decisional record on the Request will be developed through responses to this Notice by parties, including the parties' written comments and replies thereto. Additional procedures will be used as necessary to achieve a complete understanding of the facts and issues. If an additional procedure is scheduled, notice will be provided to all parties. If no party requests additional procedures, a final Order may be issued based on the official record, including the Request and responses filed by parties pursuant to this Notice, in accordance with 10 CFR 590.316.

Signed in Washington, DC, on June 13, 2025.
Amy Sweeney,
Director, Office of Regulation, Analysis, and Engagement, Office of Resource Sustainability.

[FR Doc. 2025-11131 Filed 6-16-25; 8:45 am]

BILLING CODE 6450-01-P